DEPARTMENT OF THE INTERIOR

Bureau of Land Management

[ID-957-1430-BJ]

Idaho: Filing of Plats of Survey

AGENCY: Bureau of Land Management, Interior.

ACTION: Notice.

SUMMARY: The plats of the following described lands were officially filed in the Idaho State Office, Bureau of Land Management, Boise, Idaho, effective 9:00 a.m., on the dates specified: The field notes representing the correction and superceding of original page 16 of M.S. No. 3680 (Mineral Survey Volume M-167, page 203) in T. 12 N., R. 37 E., were approved on January 18, 1999. The field notes were prepared to meet certain administrative requirements of the Lands and Mineral section (ID-933), Bureau of Land Management, Idaho State Office.

A supplemental plat was prepared to correctly depict lotting in section 32, T. 18 N., R. 23 E., and to correct a portion of the plat accepted January 19, 2000. The supplemental plat was approved March 23, 2000. The plat was prepared to meet certain administrative needs of the Bureau of Land Management, Idaho.

A supplemental plat was prepared to correctly depict the lotting in section 7, T. 7 S., R. 3 E., and to correct a portion of the plat accepted August 31, 1999. The supplemental plat was approved March 23, 2000. The plat was prepared to meet certain administrative needs of the Bureau of Land Management, Idaho.

The plat representing the dependent resurvey of portions of the Fourth Standard Parallel North, the south boundary of the Lemhi Indian Reservation, and of the subdivisional lines, and the subdivision of sections 29 and 33, T. 18 N., R. 23 E., Boise Meridian, Idaho, Group 910, was accepted January 19, 2000. The plat was prepared to meet certain administrative needs of the Bureau of Land Management.

The plat representing certain metes-and-bounds surveys within the Fort Lapwai Military Reservation, in section 11, T. 35 N., R. 4 W., Boise Meridian, Idaho, Group 1035, was accepted February 7, 2000. The plat was prepared to meet certain administrative needs of the Bureau of Indian Affairs, Northen Idaho Agency.

The plats representing the dependent resurvey of portions of the south and west boundaries and of the subdivisional lines, and the subdivision of sections 2, 3, 4, 5, 7, 11, 14, 15, 17, 18, 20, 21, 22, 23, 29, 30, and 31, T. 3 S., R. 1 W., Boise Meridian, Idaho, Group 1021, were accepted February 16, 2000.

The plats were prepared to meet certain administrative needs of the Bureau of Land Management.

The plat representing the dependent resurvey of a portion of the subdivisional lines, T. 9 S., R. 13 E., Boise Meridian, Idaho, Group 1056, was accepted March 24, 2000. The plat was prepared to meet certain administrative needs of the Bureau of Land Management.

The plat representing the dependent resurvey of a portion of the east boundary, and of a portion of the subdivisional lines in T. 15 S., R. 21 E., Boise Meridian, Idaho, Group 1059, was accepted March 29, 2000. The plat was prepared to meet certain administrative needs of the Bureau of Land Management.

The plat representing the dependent resurvey of portions of the subdivisional lines, and of the subdivision of section 12, and the additional subdivision of section 12, T. 12 S., R. 19 E., Boise Meridian, Idaho, Group 1038, was accepted March 29, 2000. The plat was prepared to meet certain administrative needs of the Bureau of Land Management.

FOR FURTHER INFORMATION CONTACT: Duane Olsen, Chief, Cadastral Survey, Idaho State Office, Bureau of Land Management, 1387 South Vinnell Way, Boise, Idaho, 83709-1657, 208-373-3980.

Dated: April 11, 2000.
Harry K. Smith,
Acting Chief, Cadastral Surveyor for Idaho.

[FR Doc. 00-10401 Filed 4-26-00; 8:45 am]

BILLING CODE 4310-GG-P